DEPARTMENT OF ENERGY

Federal Energy Regulatory Commission

[Docket Nos. RP09-8-000]

Tuscarora Gas Transmission Company; Notice Deferring Technical Conference Date

December 8, 2008.

On December 8, 2008, Tuscarora Gas Transmission Company (Tuscarora) filed a request for deferral of the technical conference scheduled in the above-captioned proceeding for December 11, 2008.¹ Tuscarora states that deferral of the technical conference until January 15, 2009, will provide additional time for settlement discussions among the parties. Tuscarora further states that it has contacted the intervenors in this proceeding and is authorized by all parties to express their support for this request.

¹ The Commission directed that a technical conference be held to address the issues raised by Tuscarora's October 1, 2008 tariff filing in this proceeding. Tuscarora Gas Transmission Co., 125 FERC ¶ 61,133 (2008).

By this notice, Tuscarora's request for deferral of the technical conference date is granted. The technical conference scheduled for December 11, 2008, is cancelled and will be rescheduled for Thursday, January 15, 2009, at 10 a.m (EDT), in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Timothy Duggan at (202) 502-8326 or e-mail Timothy.Duggan@ferc.gov.

Nathaniel J. Davis, Sr.,
Deputy Secretary.

[FR Doc. E8-29463 Filed 12-11-08; 8:45 am]

BILLING CODE 6717-01-P